DEPARTMENT OF JUSTICE

Notice of Lodging of Proposed Complaint and Consent Decree Under the Clean Air Act

On June 9, 2022, the Department of Justice lodged a proposed consent decree with the United States District Court for the Western District of Louisiana in the lawsuit entitled United States, Commonwealth of Kentucky Department for Environmental Protection, and Louisiana Department of Environmental Quality v. Westlake Petrochemical LLC, et al., Civil Action No. 22-cv-1577.

Plaintiffs filed this lawsuit under the Clean Air Act. The complaint seeks injunctive relief and civil penalties based on violations of the Clean Air Act's New Source Review requirements, New Source Performance Standards, National Emissions Standards for Hazardous Air Pollutants, Maximum Achievable Control Technology Standards, “Title V” program requirements and operating permits, and related Kentucky and Louisiana state implementation plan requirements. The alleged violations involve flares used at three petrochemical manufacturing facilities owned and operated by the defendant, in Calvert City, Kentucky and Lake Charles, Louisiana. Under the proposed consent decree, the defendants have agreed to perform injunctive relief (including flare gas minimization, flaring efficiency measures, and fenceline monitoring) that is estimated to cost $110,500,000 million, and pay a $1 million civil penalty.

The publication of this notice opens a period for public comment on the proposed consent decree. Comments should be addressed to the Assistant Attorney General, Environment and Natural Resources Division, and should refer United States, Commonwealth of Kentucky Department for Environmental Protection, and Louisiana Department of Environmental Quality v. Westlake Petrochemical LLC, D.J. Ref. No. 90-5-2-1-11287. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $33.50 (25 cents per page reproduction cost) payable to the United States Treasury. For a paper copy without the exhibits and signature pages, the cost is $22.

Thomas Carroll,
Assistant Section Chief, Environmental Enforcement Section, Environment and Natural Resources Division.

[FR Doc. 2022-12853 Filed 6-14-22; 8:45 am]

BILLING CODE P